DEPARTMENT OF HEALTH AND HUMAN SERVICES

Centers for Disease Control and Prevention

Notice of Award of Single-Source Cooperative Agreements To Fund Fundação para o Desenvolvimento Científico e Tecnológico em Saúde (FIOTEC), Brazil; The Lighthouse Trust, Malawi; and Ghana AIDS Commission (GAC), West Africa Region (Ghana)

AGENCY: Centers for Disease Control and Prevention (CDC), Department of Health and Human Services (HHS).

ACTION: Notice.

SUMMARY: The Centers for Disease Control and Prevention (CDC), within the Department of Health and Human Services (HHS), announces the awards of approximately $6,000,000 for Year 1 funding to FIOTEC, Brazil; approximately $13,000,000 for Year 1 to the Lighthouse Trust, Malawi; and approximately $300,000 for Year 1 funding to GAC, Ghana. These awards will support implementation of a comprehensive combination of HIV prevention, monitoring, diagnosis, and treatment systems; emergency preparedness and response; and a reduction of infectious disease burden in Brazil, Malawi, and Ghana. Funding amounts for years 2-5 will be set at continuation.

DATES: The period for this award will be September 30, 2023, through September 29, 2028.

FOR FURTHER INFORMATION CONTACT:

Brazil: Angel Roca, Center for Global Health, Centers for Disease Control and Prevention, 1600 Clifton Road, MS US1-2 Atlanta, GA 30333, Telephone: (404) 639-6476, Email: axr4@cdc.gov.

Malawi: Dr. Dumbani Kayira, Center for Global Health, Centers for Disease Control and Prevention, Malawi Office, NICO House, P.O. Box 30016 Lilongwe 3, Malawi, Telephone: +265888969870, Email: kvj2@cdc.gov.

West Africa Region (Ghana): Dr. Trong Ao, Center for Global Health, Centers for Disease Control and Prevention, U.S. Embassy, 24 Fourth Circular Rd. Cantonments, Accra, Telephone:: +233302741781, Email: tfa8@cdc.gov.

SUPPLEMENTARY INFORMATION:

• FIOTEC, Brazil: The single-source award will provide opportunities to support the HIV response consistent with PEPFAR requirements and other public health initiatives that technically support enhancement of public health capacity. FIOTEC is in a unique position to conduct this work, as it is a private, endowed, non-profit foundation with administrative and financial autonomy. And no other national level foundation or non-governmental entity is able to receive and manage funds on behalf of the Brazilian Ministry of Health (MoH) while still meeting USG funding eligibility criteria.

• The Lighthouse Trust, Malawi: The single-source award will contribute to sustaining epidemic control through high quality client centered service delivery and national HIV program capacity strengthening.

The Lighthouse Trust is in a unique position as the flagship public service provider and technical leader for and within Malawi's successful national HIV treatment and care program. It is the designated public HIV service provider in the capital city, Lilongwe, and central region's largest public hospitals, and it is the highest-level referral center for HIV clinical services in the national HIV program, providing clinical oversight and care for complicated patients throughout Malawi.

• GAC, West Africa Region (Ghana): The single-source award will support GAC which is the mandated government agency providing leadership and coordination of HIV programs in Ghana through the UNAIDS three ones principle: one agreed HIV/AIDS action framework that provides the basis for coordinating the work of all partners, one national AIDS coordinating authority with a broad-based multi-sector mandate, and one agreed country level monitoring and evaluation system.

GAC holds legal responsibility for formulating policies and designing strategies to respond to Ghana's HIV and AIDS epidemic, to provide for the management of the fund, to prevent and control the HIV and AIDS epidemic, and to promote and protect the rights of People Living with HIV (PLHIV) and to provide for related purposes.

Summary of the Awards

Recipients: Fundação para o Desenvolvimento Científico e Tecnológico em Saúde (FIOTEC), Brazil; The Lighthouse Trust, Malawi; Ghana AIDS Commission (GAC), West Africa Region (Ghana).

Purpose of the Awards: The purpose of these awards is to support implementing a comprehensive combination of HIV prevention, monitoring, diagnosis, and treatment systems; emergency preparedness and response; and reduce infectious disease burden in Brazil, Malawi, and Ghana.

Amount of the Awards: For FIOTEC the approximate year 1 award funding amount is $6,000,000 in Federal Fiscal Year (FYY) 2023, subject to the availability of funds. Funding amounts for years 2-5 will be set at continuation. For The Lighthouse Trust the approximate year 1 award funding amount is $13,000,000 in Federal Fiscal Year (FYY) 2023, subject to the availability of funds. Funding amounts for years 2-5 will be set at continuation. For GAC the approximate year 1 award funding amount is $300,000 in Federal Fiscal Year (FYY) 2023, subject to the availability of funds. Funding amounts for years 2-5 will be set at continuation.

Authority: These programs are authorized under Public Law 108-25 (the United States Leadership Against HIV AIDS, Tuberculosis and Malaria Act of 2003).

Period of Performance: September 30, 2023 through September 29, 2028.

Dated: March 9, 2023.
Terrance Perry,
Chief Grants Management Officer, Centers for Disease Control and Prevention.

[FR Doc. 2023-05255 Filed 3-14-23; 8:45 am]

BILLING CODE 4163-18-P